OFFICE OF THE UNITED STATES TRADE REPRESENTATIVE

[Docket No. WTO/DS379]

WTO Dispute Settlement Proceeding Regarding United States—Definitive Anti-Dumping and Countervailing Duties on Certain Products From China

AGENCY: Office of the United States Trade Representative.

ACTION: Notice; request for comments.

SUMMARY: The Office of the United States Trade Representative (“USTR”) is providing notice that on December 9, 2008, the People's Republic of China (“China”) requested the establishment of a dispute settlement panel under the Marrakesh Agreement Establishing the World Trade Organization (“WTO Agreement”) concerning final anti-dumping and countervailing duty determinations and orders by the Department of Commerce on imports of the following products from China: Circular Welded Carbon Quality Steel Pipe (Investigations A-570-910 and C-570-911); Certain New Pneumatic Off-the-Road Tires (Investigations A-570-912 and C-570-913); Light-Walled Rectangular Pipe and Tube (Investigations A-570-914 and C-570-915); and Laminated Woven Sacks (Investigations A-570-916 and C-570-917). That request may be found at www.wto.org contained in a document designated as WT/DS379/2. USTR invites written comments from the public concerning the issues raised in this dispute.

DATES: Although USTR will accept any comments received during the course of the dispute settlement proceedings, comments should be submitted on or before February 20, 2009 to be assured of timely consideration by USTR.

ADDRESSES: Public comments should be submitted electronically to www.regulations.gov, docket number USTR-2008-0035. If you are unable to provide submissions by www.regulations.gov, please contact Sandy McKinzy at (202) 395-9483 to arrange for an alternative method of transmission. If (as explained below) the comment contains confidential information, then the comment should be submitted by fax only to Sandy McKinzy at (202) 395-3640.

FOR FURTHER INFORMATION CONTACT: Arun Venkataraman, Associate General Counsel, Office of the United States Trade Representative, 600 17th Street, NW., Washington, DC 20508, (202) 395-5694.

SUPPLEMENTARY INFORMATION: Section 127(b) of the Uruguay Round Agreements Act (URAA) (19 U.S.C. 3537(b)(1)) requires that notice and opportunity for comment be provided after the United States submits or receives a request for the establishment of a WTO dispute settlement panel. Consistent with this obligation, USTR is providing notice that the establishment of a dispute settlement panel has been requested pursuant to the WTO Understanding on Rules and Procedures Governing the Settlement of Disputes (“DSU”) in this dispute. If such a panel is established pursuant to the DSU, such panel, which would hold its meetings in Geneva, Switzerland, would be expected to issue a report on its findings and recommendations within nine months after it is established.

Major Issues Raised by China

In its December 9, 2008 panel request, China makes a number of allegations concerning the Department of Commerce's final antidumping and countervailing duty determinations and orders regarding the following products from China: Circular Welded Carbon Quality Steel Pipe (Investigations A-570-910 and C-570-911); Certain New Pneumatic Off-the-Road Tires (Investigations A-570-912 and C-570-913); Light-Walled Rectangular Pipe and Tube (Investigations A-570-914 and C-570-915); and Laminated Woven Sacks (Investigations A-570-916 and C-570-917). These final determinations and orders are available at the following Web pages of the Department of Commerce: http://ia.ita.doc.gov/frn/0806frn/index.html#CHINA, http://ia.ita.doc.gov/frn/0807frn/index.html#CHINA, http://ia.ita.doc.gov/frn/0808frn/index.html#CHINA, http://ia.ita.doc.gov/frn/0809frn/index.html#CHINA.

With respect to certain of the aforementioned determinations, China alleges that the Department of Commerce acted inconsistently with particular provisions of the General Agreement on Tariffs and Trade 1994, WTO Agreement on Anti-Dumping (“Anti-Dumping Agreement”), and Agreement on Subsidies and Countervailing Measures (“SCM Agreement”) when allegedly it (I) erroneously concluded that certain State-owned enterprises are “public bodies,” (ii) failed to determine whether such enterprises had been “entrusted or directed” to provide a “financial contribution,” (iii) erroneously concluded that a “benefit” had been conferred, and (iv) failed to demonstrate “specificity.”

China also alleges that the United States acted inconsistently with particular provisions of the Anti-Dumping Agreement and SCM Agreement in connection with the Department of Commerce's use of a non-market economy (NME) methodology for the purpose of determining the existence and amount of alleged dumping under Article VI of the GATT 1994 and the AD Agreement, simultaneously with the determination of subsidization and imposition of countervailing duties on the same subject merchandise.

Finally, China alleges actions inconsistent with the Anti-Dumping Agreement and the SCM Agreement in connection with the Department of Commerce's conduct of the underlying anti-dumping and countervailing duty investigations, including its failure to inform interested parties of certain issues and the use of adverse inferences and facts available.

Public Comment: Requirements for Submissions

Interested persons are invited to submit written comments concerning the issues raised in this dispute. Persons may submit public comments electronically to www.regulations.gov, docket number USTR-2008-0035. If you are unable to provide submissions by www.regulations.gov, please contact Sandy McKinzy at (202) 395-9483 to arrange for an alternative method of transmission.

To submit comments via www.regulations.gov, enter docket number USTR-2008-0035 on the home page and click “go”. The site will provide a search-results page listing all documents associated with this docket. Find a reference to this notice by selecting “Notice” under “Document Type” on the left side of the search-results page, and click on the link entitled “Send a Comment or Submission.” (For further information on using the www.regulations.gov Web site, please consult the resources provided on the Web site by clicking on “How to Use This Site” on the left side of the home page.)

The www.regulations.gov site provides the option of providing comments by filling in a “General Comments” field, or by attaching a document. It is expected that most comments will be provided in an attached document. If a document is attached, it is sufficient to type “See attached” in the “General Comments” field.

A person requesting that information contained in a comment submitted by that person be treated as confidential business information must certify that such information is business confidential and would not customarily be released to the public by the submitter. Confidential business information must be clearly designated as such and the submission must be marked “BUSINESS CONFIDENTIAL” at the top and bottom of the cover page and each succeeding page. Any comment containing business confidential information must be submitted by fax to Sandy McKinzy at (202) 395-3640. A non-confidential summary of the confidential information must be submitted to www.regulations.gov. The non-confidential summary will be placed in the docket and open to public inspection.

Information or advice contained in a comment submitted, other than business confidential information, may be determined by USTR to be confidential in accordance with section 135(g)(2) of the Trade Act of 1974 (19 U.S.C. 2155(g)(2)). If the submitter believes that information or advice may qualify as such, the submitter—

(1) Must clearly so designate the information or advice;

(2) Must clearly mark the material as “SUBMITTED IN CONFIDENCE” at the top and bottom of the cover page and each succeeding page; and

(3) Must provide a non-confidential summary of the information or advice.

Any comment containing confidential information must be submitted by fax. A non-confidential summary of the confidential information must be submitted to www.regulations.gov. The non-confidential summary will be placed in the docket and open to public inspection.

USTR will maintain a docket on this dispute settlement proceeding, accessible to the public. The public file will include non-confidential comments received by USTR from the public with respect to the dispute; if a dispute settlement panel is convened or in the event of an appeal from such a panel, the U.S. submissions, any non-confidential submissions, or non-confidential summaries of submissions, received from other participants in the dispute; the report of the panel; and, if applicable, the report of the Appellate Body. Comments will be placed in the docket and open to public inspection pursuant to 15 CFR 2006.13, except confidential business information exempt from public inspection in accordance with 15 CFR 2006.15 or information determined by USTR to be confidential in accordance with 19 U.S.C. 2155(g)(2). Comments open to public inspection may be viewed on the www.regulations.gov Web site by entering docket number USTR-2008-0035 in the search field on the home page.

Daniel Brinza,
Assistant United States Trade Representative for Monitoring and Enforcement.

[FR Doc. E8-31170 Filed 12-30-08; 8:45 am]

BILLING CODE 3190-W9-P